DEPARTMENT OF COMMERCE

Foreign-Trade Zones Board

[B-102-2013]

Foreign-Trade Zone (FTZ) 20—Suffolk, Virginia; Notification of Proposed Production Activity; Canon Virginia, Inc. (Toner Cartridges, Toner Bottles and Cartridge Parts); Newport News, Virginia

Canon Virginia, Inc. (CVI) submitted a notification of proposed production activity to the FTZ Board for its facilities in Newport News, Virginia within Subzone 20D. The notification conforming to the requirements of the regulations of the FTZ Board (15 CFR 400.22) was received on November 27, 2013.

CVI already has authority to produce a range of printers, copiers and their parts, including toner cartridges and toner bottles, within Subzone 20D. The current request would add foreign-status components to the scope of authority. Pursuant to 15 CFR 400.14(b), additional FTZ authority would be limited to the specific foreign-status materials and components and specific finished products listed in the submitted notification (as described below) and subsequently authorized by the FTZ Board.

Production under FTZ procedures could exempt CVI from customs duty payments on the foreign-status components used in export production. On its domestic sales, CVI would be able to choose the duty rates during customs entry procedures that apply to toner cartridges, bottles and cartridge parts (duty free) for the foreign-status inputs noted below and in the existing scope of authority. Customs duties also could possibly be deferred or reduced on foreign-status production equipment.

The components and materials sourced from abroad include: oil (releasing agent—aliphatic hydrocarbon), polymer fixing agent (polyol curative), resins (polyethylene terephthalate, polyisocynate prepolymer, and high impact polystyrene) and filter paper (duty rates are: duty-free, 10 cents/barrel or 6.5%).

Public comment is invited from interested parties. Submissions shall be addressed to the FTZ Board's Executive Secretary at the address below. The closing period for their receipt is January 21, 2014.

A copy of the notification will be available for public inspection at the Office of the Executive Secretary, Foreign-Trade Zones Board, Room 21013, U.S. Department of Commerce, 1401 Constitution Avenue NW, Washington, DC 20230-0002, and in the “Reading Room” section of the FTZ Board's Web site, which is accessible via www.trade.gov/ftz.

For further information, contact Diane Finver at Diane.Finver@trade.gov or (202) 482-1367.

Dated: December 3, 2013.
Andrew McGilvray,
Executive Secretary.

[FR Doc. 2013-29332 Filed 12-6-13; 8:45 am]

BILLING CODE 3510-DS-P